DEPARTMENT OF TRANSPORTATION

Federal Railroad Administration

[Docket No. FRA-2000-7257; Notice No. 35]

Railroad Safety Advisory Committee (RSAC); Working Group Activity Update

AGENCY: Federal Railroad Administration (FRA), Department of Transportation (DOT).

ACTION: Announcement of Railroad Safety Advisory Committee (RSAC) Working Group Activities.

SUMMARY: The FRA is updating its announcement of RSAC's Working Group activities to reflect its current status.

FOR FURTHER INFORMATION CONTACT: Patricia Butera or Lydia Leeds, RSAC Coordinator, FRA, 1120 Vermont Avenue, NW., Mailstop 25, Washington, DC 20590, (202) 493-6212/6213 or Grady Cothen, Deputy Associate Administrator for Safety, FRA, 1120 Vermont Avenue, NW., Mailstop 25, Washington, DC 20590, (202) 493-6302.

SUPPLEMENTARY INFORMATION: This notice serves to update FRA's last announcement of working group activities and status reports of April 12, 2005, (70 FR 19145). The 27th full Committee meeting was held October 11, 2005.

Since its first meeting in April of 1996, the RSAC has accepted twenty tasks. Status for each of the tasks is provided below:

Open Tasks

Task 96-4—Reviewing the appropriateness of the agency's current policy regarding the applicability of existing and proposed regulations to tourist, excursion, scenic, and historic railroads. This Task was accepted on April 2, 1996, and a Working Group was established. The Working Group monitored the steam locomotive regulation task. Planned future activities involve the review of other regulations for possible adaptation to the safety needs of tourist and historic railroads. Contact: Grady Cothen, (202) 493-6302.

Task 97-1—Developing crashworthiness specifications to promote the integrity of the locomotive cab in accidents resulting from collisions. This Task was accepted on June 24, 1997. On April 14, 2004, the RSAC reached consensus on the Notice of Proposed Rulemaking (NPRM). The NPRM is a new standard to increase the crashworthiness of conventional wide- and narrow-nose locomotives and codifies requirements for monocoque locomotives. On November 2, 2004, FRA published an NPRM in the Federal Register (69 FR 63990) proposing to establish comprehensive, minimum standards for locomotive crashworthiness. In that NPRM, FRA established a January 3, 2005, deadline for submission of written comments. FRA received a request to extend the comment period to give interested parties additional time to review, analyze, and submit comments on the NPRM. After considering the request, FRA extended the comment period until February 3, 2005. The Working Group met to review the public comments on June 27-28, 2005, and reached consensus on July 1, 2005. The Working Group's recommendations were adopted by the full Committee, by mail ballot, on August 5, 2005. The final rule is in review and clearance. Contact: Charles Bielitz, (202) 493-6314 or John Punwani (202) 493-6369.

Task 97-2—Evaluating the extent to which environmental, sanitary, and other working conditions in locomotive cabs affect the crew's health and the safe operation of locomotives, proposing standards where appropriate. This Task was accepted June 24, 1997.

(Sanitation) (Completed)

(Noise exposure) On June 27, 2003, the full RSAC gave consensus by ballot on the NPRM. The NPRM was published in the Federal Register on June 23, 2004. The comment period ended September 21, 2004. Task Force and Working Group meetings were held March 1, and March 2 and 3, 2005, respectively, to review the public comments and recommend a final rule. The Working Group reached agreement on all issues, and its report was presented to the full Committee on May 18, 2005. FRA is preparing the final rule, which will then undergo review and clearance within the Executive Branch.

(Cab Temperature) (Completed)

Note: Additional related topics such as vibration may be considered by the Working Group in the future. Contact: Jeffrey Horn, (202) 493-6283.

Task 97-4 and Task 97-5—Defining Positive Train Control (PTC) functionalities, describing available technologies, evaluating costs and benefits of potential systems, and considering implementation opportunities and challenges, including demonstration and deployment.

Task 97-6—Revising various regulations to address the safety implications of processor-based signal and train control technologies, including communications-based operating systems. These three Tasks were accepted on September 30, 1997, and assigned to a single Working Group.

(Report to the Administrator) A Data and Implementation Task Force, formed to address issues such as assessment of costs and benefits and technical readiness, completed a report on the future of PTC systems. The report was accepted as RSAC's Report to the Administrator at the September 8, 1999, meeting. The FRA enclosed the report with a letter to Congress signed May 17, 2000.

(Regulatory development) The Standards Task Force, formed to develop PTC standards, assisted in developing draft recommendations for performance-based standards for processor-based signal and train control systems. The NPRM was approved by consensus at the full RSAC meeting held on September 14, 2000. The NPRM was published in the Federal Register on August 10, 2001. A meeting of the Working Group was held December 4-6, 2001, in San Antonio, Texas, to formulate recommendations for resolution of issues raised in the public comments. Agreement was reached on most issues raised in the comments. A meeting was held May 14-15, 2002, in Colorado Springs, Colorado, at which the Working Group approved creation of teams to further explore the “base case” issue. Briefing of the full RSAC on the “base case” issue was completed on May 29, 2002, and consultations continued within the working group. The full Working Group met October 22-23, 2002, and again March 4-6, 2003. Resolution of the remaining issues was considered by the Working Group at the July 8-9, 2003, meeting. The Working Group achieved consensus on recommendations for resolution of a portion of the issues in the proceeding. The full Committee considered the Working Group recommendations by mail ballots scheduled for return on August 14, 2003; however, a majority of the members voting did not concur. The final rule was published in the Federal Register on March 7, 2005, (70 FR 11051). The RSAC PTC Working Group met on July 14-15, 2005, to discuss implementation guidance and receive a task force report on roadway worker terminals. Contact: Grady Cothen, (202) 493-6302.

Task 03-01—Passenger Safety. This Task was accepted on May 20, 2003, and a Working Group was established. Prior to embarking on substantive discussions of a specific task, the Working Group set forth in writing a specific description of the task. The Working Group will report any planned activity to the full Committee at each scheduled full RSAC meeting, including milestones for completion of projects and progress toward completion. At the first meeting held September 9-10, 2003, a consolidated list of issues was completed. At the second meeting held November 6-7, 2003, five task groups were established: Crashworthiness/glazing; emergency preparedness; mechanical-general issues; mechanical-safety appliances; and track/vehicle interaction. The task groups met and reported on activities for Working Group consideration at the third meeting held May 11-12, 2004, and a fourth meeting was held October 26-27, 2004. Initial recommendations on mechanical issues (revisions to 49 CFR part 238) were approved by the full Committee on January 26, 2005. At the Working Group meeting of March 9-10, 2005, the Working Group received and approved the consensus report of the Emergency Preparedness Task Force related to emergency egress and rescue access. These recommendations were presented to and approved by the full Committee on May 18, 2005. An NPRM is now under development. The Working Group met on September 7-8, 2005, and additional, supplementary recommendations were presented to and accepted by the full RSAC on October 11, 2005. Contact: Charles Bielitz, (202) 493-6314.

Task 05-01—Review of Roadway Worker Protection issues. This Task was accepted on January 26, 2005, to review 49 CFR 214, subpart C, Roadway Worker Protection, and related sections of Subpart A; recommend consideration of specific actions to advance the on-track safety of railroad employees and contractors engaged in maintenance-of-way activities throughout the general system of railroad transportation, including clarification of existing requirements. A Working Group has been established and will report to the RSAC any specific actions identified as appropriate. The first meeting of the Working Group was held on April 12-14, 2005. The Working Group will report planned activity to the full Committee at each scheduled Committee meeting, including milestones for completion of projects and progress toward completion. The Working Group met on June 22-24, 2005, August 8-11, 2005, September 20-22, 2005, and November 8-9, 2005. The next Working Group meeting is scheduled for January 10-11, 2006. Contact: Christopher Schulte, (202) 493-6251.

Task 05-02—Reduce Human Factor-Caused Train Accident/Incidents. This Task was accepted on May 18, 2005, to reduce the number of human factor-caused train accidents/incidents and related employee injuries. A Working Group has been established. The Working Group will report any planned activity to the full Committee at each scheduled full RSAC meeting, including milestones for completion of projects and progress toward completion. The Working Group met on July 12-13, 2005, August 31—September 1, 2005, September 28-29, 2005, October 25-26, 2005, November 16-17, 2005, and December 6-7, 2005. The Working Group is expected to submit initial recommendations in February of 2006.

Contact: Douglas Taylor, (202) 493-6255.

Completed Tasks

Task 96-1—(Completed) Revising the Freight Power Brake Regulations.

Task 96-2—(Completed) Reviewing and recommending revisions to the Track Safety Standards (49 CFR part 213).

Task 96-3—(Completed) Reviewing and recommending revisions to the Radio Standards and Procedures (49 CFR part 220).

Task 96-5—(Completed) Reviewing and recommending revisions to Steam Locomotive Inspection Standards (49 CFR part 230).

Task 96-6—(Completed) Reviewing and recommending revisions to miscellaneous aspects of the regulations addressing Locomotive Engineer Certification (49 CFR part 240).

Task 96-7—(Completed) Developing Roadway Maintenance Machines (On-Track Equipment) Safety Standards.

Task 96-8—(Completed) This Planning Task evaluated the need for action responsive to recommendations contained in a report to Congress entitled, Locomotive Crashworthiness & Working Conditions.

Task 97-3—(Completed) Developing event recorder data survivability standards.

Task 97-7—(Completed) Determining damages qualifying an event as a reportable train accident.

Task 00-1—(Completed—task withdrawn) Determining the need to amend regulations protecting persons who work on, under, or between rolling equipment and persons applying, removing or inspecting rear end marking devices (Blue Signal Protection).

Task 01-1—(Completed) Developing conformity of FRA's regulations for accident/incident reporting (49 CFR part 225) to revised regulations of the Occupational Safety and Health Administration (OSHA), U.S. Department of Labor, and to make appropriate revisions to the FRA Guide for Preparing Accident/Incident Reports (Reporting Guide).

Please refer to the notice published in the Federal Register on March 11, 1996, (61 FR 9740) for more information about the RSAC.

Issued in Washington, DC, on December 6, 2005.
Michael Logue,
Deputy Associate Administrator, for Safety Compliance and Program Implementation.

[FR Doc. E5-7200 Filed 12-9-05; 8:45 am]

BILLING CODE 4910-06-P